DEPARTMENT OF STATE

[Public Notice 3819]

Bureau of African Affairs; Africa/Public Diplomacy (AF/PD) Professional Internship Program

Introduction

The United States Department of State announces an open competition for an assistance award. Nongovernmental organizations may apply to design and manage a multi-faceted program that consists of (1) U.S.-based professional internships, (2) Africa-based AGOA workshops.

AGOA (Africa Growth and Opportunity Act), signed into law in May 2000, offers qualifying African countries preferential access to U.S. markets for their industries. The countries participating in AGOA are positioned in varying degrees to take advantage of the bill. Some, such as South Africa and Mauritius, have well-developed light industrial sectors poised to begin exporting to U.S. markets. Others have little industry positioned to compete and no immediate prospects. All have indicated enthusiasm for the possibilities offered by AGOA, tempered by the realization that the African private sector needs more exposure to U.S. markets, business practices, and trade associations before they will be able to access U.S. markets and develop viable two-way trade relationships and thereby realize the full benefits of AGOA.

Purpose

The program will provide medium and small African business entrepreneurs and members of business associations exposure to AGOA and to the American market in order to increase capacity to develop new African-U.S. trade linkages. The program will give them an understanding of American business norms and actual practices, provide them with knowledge of U.S. customs operations, product distribution and retailing, and, finally, help them develop business linkages and relationships with manufacturers and businesses in their respective sectors. The grant will fund a two-part program to offer African entrepreneurs both exposure to U.S. markets and the opportunity to share their insights and knowledge with business associations and other entrepreneurs upon returning home.

The AF/PD AGOA Professional Internship Program is designed to enhance the professional skills and abilities of the participants and assist them in understanding the variety, depth, and practices of the American market and also provide them with an introduction to American entrepreneurs and trade associations.

The contract agency will be expected to work closely with AF/PD and Public Affairs Sections of U.S. Embassies in Africa in developing and implementing this program.

Authority

22 U.S.C.-2452(a)(2)

Eligible Applicants

Eligible applicants include all nongovernmental institutions, private organizations, and commercial entities.

Availability of Funds

The funding level for this Cooperative Agreement shall be no higher than $750,000. Award of this cooperative agreement is based on the availability of funds for fiscal year 2002. A final award will not be made until funds appropriated by Congress are available through internal Department of State procedures.

Continuing awards within the project period will be made on the basis of satisfactory progress and the availability of funds.

Reporting Requirement

Periodic progress reports and a final evaluation will be required.

Review Criteria

Technically eligible applicants will be competitively reviewed under 6 criteria. The criteria are: (1) Cost effectiveness and cost sharing; (2) Program planning and ability to achieve objectives; (3) Institutional capacity; (4) Program monitoring; (5) Program evaluation (6) Support of diversity.

Other Requirements

Paperwork Reduction Act

Projects that involve the collection of information from 10 or more individuals and funded by the cooperative agreement will be subject to review by the Office of Management and Budget (OMB) under the Paperwork Reduction Act.

Application Submission and Deadline

The original and ten (10) copies of the application (Standard Form 424) must be submitted to the U.S. Department of State, Ms. Joanna Pisciotta Snearly, Grants Officer, A/LM/AQM/IP, State Annex #44, Room M-22, 301 4th Street SW, Washington, DC, 20547 on or before November 28, 2001.

Where To Obtain Additional Information

A detailed program description and application package may be obtained from Ms. Joanna Pisciotta Snearly, Grants Officer, U.S. Department of State, A/LM/AQM/IP, State Annex #44, Room M-22, 301 4th Street SW, Washington, DC 20547, telephone (202) 260-6549, fax (202) 205-5466 email jsnearly@pd.state.gov. Please refer to the “AF/PD Professional Internship Program” when requesting information or sending an application.

Dated: October 16, 2001.
Joanna Pisciotta Snearly,
Grants Officer, Administration/Logistics Management/Acquisition Management/International Programs, Department of State.

[FR Doc. 01-26542 Filed 10-19-01; 8:45 am]

BILLING CODE 4710-26-P